DEPARTMENT OF HEALTH AND HUMAN SERVICES

42 CFR Part 71

[Docket No. CDC-CDC-2023-0051]

RIN 0920-AA82

Control of Communicable Diseases; Foreign Quarantine: Importation of Dogs and Cats; Correction

AGENCY: Centers for Disease Control and Prevention (CDC), Department of Health and Human Services (HHS).

ACTION: Final rule; correction.

SUMMARY: The Centers for Disease Control and Prevention (CDC) in the Department of Health and Human Services (HHS) announces a technical correction to the final rule published on May 13, 2024, regarding the importation of dogs and cats into the United States. The final rule contained a technical error. HHS/CDC is therefore publishing this amendment to the final rule correcting an error in amending instructions to the Office of the Federal Register.

DATES: Effective on August 1, 2024.

FOR FURTHER INFORMATION CONTACT: Ashley C. Altenburger, J.D., Division of Global Migration Health, Centers for Disease Control and Prevention, 1600 Clifton Road NE, MS-H16-4, Atlanta, Georgia 30329. Telephone: 1-800-232-4636.

SUPPLEMENTARY INFORMATION: On May 13, 2024, HHS/CDC published a final rule (89 FR 41726) that included a technical error. Therefore, HHS/CDC is publishing this notice to correct the technical error that was made in the final rule.

Section 553(b)(B) of the Administrative Procedure Act (APA), 5 U.S.C. 553(b)(B), provides that, when an agency for good cause finds that notice and public procedure are impracticable, unnecessary, or contrary to the public interest, the agency may issue a rule without providing notice and an opportunity for public comment. We have determined that it is unnecessary to provide prior notice and the opportunity for public comment because the technical correction being made, as discussed below, address only a minor publication error that does not substantially change agency actions taken in the final rule. For the same reasons we find good cause to make the correction effective on publication.

Summary of the Technical Correction to 42 CFR Part 71—Foreign Quarantine; Importation of Dogs and Cats

The final rule contains instructions to the Office of the Federal Register explaining how § 71.51, Dogs and cats, should appear once published in the Code of Federal Regulations. In amending instruction 3.j. to § 71.51, appearing at 89 FR 41837, HHS/CDC included instructions “adding paragraphs (h) through (ff).” However, the final rule contained updated provisions through paragraph (gg) and should have indicated that HHS/CDC is “adding paragraphs (h) through (gg).” We are therefore making this technical correction to ensure that paragraph (gg) is published in the Code of Federal Regulations as HHS/CDC intended and as discussed in the final rule.

Correction

For the reasons noted above, in FR Doc. 2024-09676, beginning on page 41726 in the Federal Register of Monday, May 13, 2024, the following correction is made:

§ 71.51 [Corrected]

1. On page 41837, in the third column, in amendment 3.j. for § 71.51, the instruction “Adding paragraphs (h) through (ff)” is corrected to read “Adding paragraphs (h) through (gg)”.

Elizabeth Gramling,
Executive Secretary, Department of Health and Human Services.

[FR Doc. 2024-16681 Filed 7-29-24; 8:45 am]

BILLING CODE 4163-18-P